DEPARTMENT OF TRANSPORTATION

Federal Aviation Administration

First Meeting: RTCA Special Committee 233, Addressing Human Factors/Pilot Interface Issues for Avionics

AGENCY: Federal Aviation Administration (FAA), U.S. Department of Transportation (DOT).

ACTION: Meeting Notice of RTCA Special Committee 233, Addressing Human Factors/Pilot Interface Issues for Avionics.

SUMMARY: The FAA is issuing this notice to advise the public of the first meeting of the RTCA Special Committee 233, Addressing Human Factors/Pilot Interface Issues for Avionics.

DATES: The meeting will be held February 18-19th 2015 from 9:00 a.m.-5:00 p.m.

ADDRESSES: RTCA Headquarters, 1150 18th Street NW., Suite 910, Washington, DC 20036.

FOR FURTHER INFORMATION CONTACT: The RTCA Secretariat, 1150 18th Street NW., Suite 910, Washington, DC 20036, or by telephone at (202) 330-0662 or (202) 833-9339, fax at (202) 833-9434, or Web site at http://www.rtca.org. In addition, Jennifer Iversen may be contacted directly at email: JIversen@rtca.org.

SUPPLEMENTARY INFORMATION: Pursuant to section 10(a)(2) of the Federal Advisory Committee Act (Pub. L. 92-463, 5 U.S.C., App.), notice is hereby given for a meeting of Special Committee 227. The agenda will include the following:

Tuesday, February 18th

• Welcome/Introductions/Administrative Remarks

Chairs—Susan Taylor (Gulfstream) & Trish Ververs (Honeywell)

Program Director—Jennifer Iversen (RTCA)

Designated Federal Officer—Michelle Yeh (FAA)

Secretary—Cathy Swider (FAA)

All participants/members

• Agenda Overview—Susan Taylor & Trish Ververs

• RTCA Functional Overview—Jennifer Iversen

• Current Committee Scope, Terms of Reference Overview Presentation, Discussion, Recommendations

• Review of Notice 8110.98, Addressing Human Factors/Pilot Interface Issues of Complex, Integrated Avionics as Part of the Technical Standard Order (TSO) Process

• Review of Human Factors Considerations in the Design and Evaluation of Flight Deck Displays and Controls, Version 1.0

• Identify topic areas for deliverable

• Assign group members

• Determine/request participation of other members/groups

• Establish/review major milestones and deliverables

• Organization of Work, Assign Tasks and Workgroups

• Presentation, Discussion, Recommendations

• Assignment of Responsibilities

Wednesday February 19th

• Review Agenda, other actions

• Working Groups meeting

• Working Group report, review progress and actions

• Other Business

• Establish Agenda for Next Meeting

• Date and Place of Next Meeting

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on January 15, 2015.
Mohannad Dawoud,
Management Analyst, NextGen, Program Oversight and Administration, Federal Aviation Administration.

[FR Doc. 2015-01025 Filed 1-21-15; 8:45 am]

BILLING CODE 4910-13-P